DEPARTMENT OF COMMERCE

International Trade Administration

[A-588-605, A-580-507]

Malleable Cast Iron Pipe Fittings From Japan and the Republic of Korea: Revocation of Antidumping Duty Orders

AGENCY: Import Administration, International Trade Administration, Department of Commerce.

SUMMARY: On January 3, 2005, the Department of Commerce (“the Department”) initiated the second sunset review of the antidumping duty orders on malleable cast iron pipe fittings from Japan and the Republic of Korea (70 FR 75). Because the domestic interested parties did not participate in this sunset review, the Department is revoking these antidumping duty orders.

EFFECTIVE DATE: February 28, 2005.

FOR FURTHER INFORMATION CONTACT: Hilary E. Sadler, Esq., Office of Policy, Import Administration, International Trade Administration, U.S. Department of Commerce, 14th Street and Constitution Avenue, NW., Washington, DC 20230; telephone: (202) 482-4340.

SUPPLEMENTARY INFORMATION: The merchandise subject to these orders is certain malleable cast iron pipe fittings, other than grooved and alloy cast iron, from Japan and the Republic of Korea. In the original orders, the merchandise was classified in the Tariff Schedules of the United States, Annotated, under item numbers 610.7000 and 610.7400. The merchandise is currently classified under item numbers 7307.19.90.30, 7307.19.90.60 and 7307.19.90.80 of the Harmonized Tariff Schedule of the United States (“HTS”). The HTS number is provided for convenience and customs purposes. The written description remains dispositive.

Background

On May 23, 1986, the Department issued an antidumping duty order on malleable cast iron pipe fittings from the Republic of Korea (51 FR 18917). On July 6, 1987, the Department issued an antidumping duty order on malleable cast iron pipe fittings from Japan (52 FR 25281). On February 28, 2000, the Department published its notice of continuation of the antidumping duty orders, following a sunset review. See Continuation of Antidumping Duty Orders: Malleable Cast Iron Pipe Fittings from Japan and Korea, 65 FR 10469 (February 28, 2000). Pursuant to section 751(c) of the Act and 19 CFR part 351, the Department initiated the second sunset review of this order by publishing the notice of the initiation in the Federal Register Initiation of Five Year (“Sunset”) Reviews, 70 FR 75 (January 3, 2005). In addition, as a courtesy to interested parties, the Department sent letters, via certified and registered mail, to each party listed on the Department's most current service list for these proceedings to inform them of the automatic initiation of a sunset review of these orders.

We received no response from the domestic industry by the deadline dates (see 19 CFR 351.218(d)(1)(i)). As a result, the Department determined that no domestic party intends to participate in these sunset reviews, and on January 27, 2005, we notified the International Trade Commission, in writing, that we intended to issue a final determination revoking these antidumping duty orders. See 19 CFR 351.218(d)(1)(iii)(B).

Determination To Revoke

Pursuant to section 751(c)(3)(A) of the Act and 19 CFR 351.218(d)(1)(iii)(B)(3), if no domestic interested party responds to the notice of initiation, the Department shall issue a final determination, within 90 days after the initiation of the review, revoking the order. Because no domestic interested party filed a notice of intent or substantive response, the Department finds that no domestic interested party is participating in this review of these antidumping duty orders, and we are revoking these antidumping duty orders effective February 28, 2005, the fifth anniversary of the date of the determination to continue the order, consistent with 19 CFR 351.222(i)(2)(i) and section 751(c)(6)(A)(iii) of the Act.

Effective Date of Revocation

Pursuant to sections 751(c)(3)(A) and 751(c)(6)(A)(iii) of the Act, and 19 CFR 351.222(i)(2)(i), the Department will instruct the U.S. Customs and Border Protection to terminate the suspension of liquidation of the merchandise subject to this order entered, or withdrawn from warehouse, on or after February 28, 2005. Entries of subject merchandise prior to the effective date of revocation will continue to be subject to suspension of liquidation and antidumping duty deposit requirements. The Department will complete any pending administrative reviews of these orders and will conduct administrative reviews of subject merchandise entered prior to the effective date of revocation in response to appropriately filed requests for review.

This five-year (“sunset”) review and notice are in accordance with sections 751(c) and 777(i)(1) of the Act.

Dated: April 4, 2005.
Joseph A. Spetrini,
Acting Assistant Secretary for Import Administration.

[FR Doc. E5-1660 Filed 4-8-05; 8:45 am]

BILLING CODE 3510-DS-P